DEPARTMENT OF COMMERCE

Foreign-Trade Zones Board

T-4-2006

Foreign-Trade Zone 222 - Montgomery, Alabama, Temporary/Interim Manufacturing Authority, Arvin Meritor, Inc. (Automotive Parts), Notice of Approval

On October 20, 2006, the Executive Secretary of the Foreign-Trade Zones (FTZ) Board filed an application submitted by the Montgomery Area Chamber of Commerce, grantee of FTZ 222, requesting temporary/interim manufacturing (T/IM) authority within FTZ 222 at the Arvin Meritor, Inc. (Arvin Meritor) automotive parts manufacturing facility located in Montgomery, Alabama.

The application was processed in accordance with T/IM procedures, as authorized by FTZ Board Order 1347 (69 FR 52857, 8/30/04), including notice in the Federal Register inviting public comment (71 FR 63283, 10/30/06). The FTZ staff examiner reviewed the application and determined that it meets the criteria for approval under T/IM procedures. Pursuant to the authority delegated to the FTZ Board Executive Secretary in Board Order 1347, the application was approved, effective December 1, 2006, until December 1, 2008, subject to the FTZ Act and the Board's regulations, including Section 400.28.

Dated: December 1, 2006.
Andrew McGilvray,
Acting Executive Secretary.

[FR Doc. E6-21126 Filed 12-11-06; 8:45 am]

BILLING CODE 3510-DS-S